NATIONAL SCIENCE FOUNDATION

Sunshine Act Meetings

The National Science Board (NSB) hereby gives notice of the scheduling of a meeting of the Executive Committee of the National Science Board for the transaction of National Science Board business pursuant to the NSF Act and the Government in the Sunshine Act. The NSB further gives short notice of the scheduling of this meeting. The NSB Executive Committee determined that the interests of the National Science Foundation required the short notice.

TIME AND DATE: The NSB Executive Committee meeting is scheduled for Wednesday, March 5, 2025, from 11:15 a.m.-12:15 p.m. Eastern.

PLACE: This meeting of the NSB Executive Committee will be held in person and via video conference through the National Science Foundation, 2415 Eisenhower Avenue, Alexandria, VA 22314.

STATUS: Closed.

MATTERS TO BE CONSIDERED: The agenda is: Director's update on recent and planned activity.

CONTACT PERSON FOR MORE INFORMATION: Point of contact for this meeting is: Chris Blair, cblair@nsf.gov, 703/292-7000. Meeting information and updates may be found at www.nsf.gov/nsb.

Ann E. Bushmiller,
Senior Counsel to the National Science Board.

[FR Doc. 2025-03770 Filed 3-5-25; 11:15 am]

BILLING CODE 7555-01-P